DEPARTMENT OF THE TREASURY

Internal Revenue Service

26 CFR Part 1

[REG-128224-06]

RIN 1545-BF80

Section 67 Limitations on Estates or Trusts; Correction

AGENCY: Internal Revenue Service (IRS), Treasury.

ACTION: Correction to a cancellation of notice of public hearing on proposed rulemaking.

SUMMARY: This document contains a correction to a cancellation of notice of public hearing on proposed rulemaking (REG-128224-06) providing guidance on which costs incurred by estates or trusts other than grantor trusts (non-grantor trusts) are subject to the 2-percent floor for miscellaneous itemized deductions under section 67(a) of the Internal Revenue Code (Code). The document was published in the Federal Register on Tuesday, December 13, 2011 (76 FR 77454).

FOR FURTHER INFORMATION CONTACT: Richard A. Hurst of the Publications and Regulations Branch, Legal Processing Division, Associate Chief Counsel (Procedure and Administration), at Richard.A.Hurst@irscounsel.treas.gov.

SUPPLEMENTARY INFORMATION:

Background

The correction notice that is the subject of this document is under section 67 of the Code.

Need for Correction

As published, a cancellation of notice of public hearing on proposed rulemaking (REG-128224-06) contains an error that may prove to be misleading and is in need of clarification.

Correction of Publication

Accordingly, the publication of cancellation of notice of public hearing on proposed rulemaking (REG-128224-06), which was the subject of FR Doc. 2011-31855, is corrected as follows:

On page 77454, column 3, in the preamble, under the subject of the headings, the title “New Markets Tax Credit Non-Real Estate Investments; Hearing Cancellation” is corrected to read “Section 67 Limitations on Estates or Trusts; Hearing Cancellation”.

LaNita Van Dyke,
Chief, Publications and Regulations Branch, Legal Processing Division, Associate Chief Counsel, (Procedure and Administration).

[FR Doc. 2011-32280 Filed 12-15-11; 8:45 am]

BILLING CODE P